DEPARTMENT OF LABOR

Employment and Training Administration

[TA-W-65,862]

BU Professional Luminaries NA, Burlington, MA; Notice of Termination of Investigation

Pursuant to Section 221 of the Trade Act of 1974, as amended, an investigation was initiated on April 28, 2009, in response to a petition filed by the IUE-CWA Region Seven union on behalf of workers of BU Professional Luminaries NA, Burlington, Massachusetts.

The petitioner has requested that the petition be withdrawn. Consequently, the investigation has been terminated.

Signed at Washington, DC, this 8th day of May, 2009.
Elliott S. Kushner,
Certifying Officer, Division of Trade Adjustment Assistance.

[FR Doc. E9-13469 Filed 6-8-09; 8:45 am]

BILLING CODE 4510-FN-P